DEPARTMENT OF HEALTH AND HUMAN SERVICES

Food and Drug Administration

21 CFR Part 101

[Docket No. FDA-2004-P-0205 (formerly Docket No. 2004P-0464)]

Food Labeling: Health Claims; Calcium and Osteoporosis, and Calcium, Vitamin D, and Osteoporosis

AGENCY: Food and Drug Administration, HHS.

ACTION: Final rule; correction.

SUMMARY: The Food and Drug Administration (FDA) is correcting a final rule that appeared in the Federal Register of Monday, September 29, 2008 (73 FR 56477). The final rule was published with an inadvertent error in the “Analysis of Economic Impacts” section. This document corrects that error.

DATES: This correction is effective: November 12, 2008.

FOR FURTHER INFORMATION CONTACT: Jillonne Kevala, Office of Nutrition, Labeling, and Dietary Supplements (HFS-830), Center for Food Safety and Applied Nutrition, Food and Drug Administration, 5100 Paint Branch Pkwy., College Park, MD 20740-3835, 301-436-1450.

SUPPLEMENTARY INFORMATION: In FR Doc. E8-22730, appearing on page 56477 in the Federal Register of September 29, 2008, the following correction is made:

1. On page 56481, in the second column, starting in the forth line, the sentence “Therefore, because of the limited use of the current calcium and osteoporosis health claim, the agency certifies that the final rule will not have a significant economic impact on a substantial number of small entities.” is corrected to read “Therefore, because of the limited use of the current calcium and osteoporosis health claim, the agency believes that the final rule will not have a significant economic impact on a substantial number of small entities.”

Dated: November 5, 2008.
Jeffrey Shuren,
Associate Commissioner for Policy and Planning.

[FR Doc. E8-26868 Filed 11-12-08; 8:45 am]

BILLING CODE 4160-01-S